DEPARTMENT OF AGRICULTURE

Forest Service

Payette National Forest, Idaho; Meadows Slope Wildland Fire Protection Project

AGENCY: Forest Service, USDA.

ACTION: Revised notice of intent to prepare an environmental impact statement.

SUMMARY: The USDA Forest Service published a Notice of Intent to prepare an environmental impact statement (EIS) for the Meadows Slope Wildland Fire Protection Project in the Federal Register on December 2, 2002 (Volume 67, Number 231, pages 71531-71532). A revised Notice of Intent is being issued for several reasons (Forest Service Handbook 1909.15, part 21.2):

1. It has been more than six months since filing the original Notice of Intent;

2. Specifics of the proposed action have been refined and better described due to more site-specific information;

3. The Payette National Forest's revised Land and Resource Management Plan was approved in July 2003; and

4. The project falls under the Healthy Forest Restoration Act of 2003, Pub. L. 108-148.

The USDA Forest Service will prepare the Meadows Slope Wildland Fire Protection Project EIS. The proposed action is to create a half-mile wide fuelbreak on National Forest System lands to reduce the risk of damage to rural homes, private property, and National Forest resources from wildland fires. The agency gives notice of the full National Environmental Policy Act (NEPA) analysis and decision-making process so that interested and affected people know how they may participate and contribute to the final decision.

DATES: Comments need to be received by April 19, 2004.

ADDRESSES: Send written comments to Kimberly A. Brandel, District Ranger, New Meadows Ranger District, Payette National Forest, P.O. Box J, New Meadows, Idaho, 83654.

FOR FURTHER INFORMATION CONTACT: Questions about the proposed action should be directed to Sylvia Clark, Interdisciplinary Team Leader, at the above address, phone (208) 347-0300.

SUPPLEMENTARY INFORMATION: The Meadows Slope project area is about four miles east of New Meadows and three miles northwest of McCall, and approximately 6,450 acres in size. It is located in Sixmile-Threemile, Lower Goose, Little Creek, Little Goose Creek, Middle North Fork Payette River, and Payette Lake sub-watersheds on the New Meadows and McCall Ranger Districts. The purpose and need for this action is to (1) reduce crown fire risk, (2) reduce forest fuel loading, and (3) reduce risk to life, property, natural resources, and suppression resources on National Forest System lands surrounding the Timber Ridge, Rock Flat, King's Pine, and Crescent Rim Subdivisions, and additional private developments adjacent to the project area.

The proposed action includes a variety of activities to meet the purpose and need. (1) Harvest timber on approximately 3,292 acres, producing approximately 12.7 million board feet (MMBF), using tractor and skyline logging systems. The silvicultural method used would be free thinning with reserve shelterwood/seed tree. (2) Hand pile and burn approximately 939 acres within Riparian Habitat Conservation Areas. (3) Non-commercial thin approximately 1481 acres. (4) Salvage dead and dying timber killed by fir engraver beetle and other pests or weakened due to light, water, or nutrient competition which may increase the fire potential within the project area. (5) Restore 74 acres of unproductive soil by obliterating roads, skid trails and/or landings in order to meet the Forest Plan Standard for total soil resource commitment (TSRC). (6) Road management would include 43 miles of maintenance, 20 miles of reconstruction, and 1.25 miles of new construction. (7) Ensure desired species composition by planting and/or natural regeneration of fire-tolerant Douglas-fir, ponderosa pine, and western larch seedlings on 804 acres following fuelbreak activities. (8) Treat harvest-generated fuels on approximately 4,773 acres (both commercial and non-commercial harvest acres). Treatments would include machine piling and burning (excavator piling would be used where slopes exceed 35 percent); broadcast burning; and/or yarding tops. (9) Monitor and treat noxious weeds, if created, within the fuelbreak area. A total of 5,712 acres would be treated with this proposed action.

Preliminary issues for this project include effects on water quality, soil productivity, wildlife, habitat, recreation, access management, visual quality, forest vegetation, and fish habitat.

The Healthy Forest Restoration Act, Title I, Section 104(c), sets forth requirements on alternatives to be analyzed. This document will analyze a no-action alternative, the proposed action, and an additional alternative proposed by the local community. The no-action alternative will serve as a baseline for comparison of alternatives.

Comments received in response to this notice, including names and addresses of those who comment, will be part of the project record and available for public review.

The Forest Service is seeking information and comments from other Federal, State, and local agencies; Tribal governments; organizations; and individuals who may be interested in or affected by the proposed action. This input will be used in preparation of the EIS.

Comments will be appreciated throughout the analysis process. The draft EIS will be filed with the Environmental Protection Agency (EPA) and is anticipated to be available for public review by autumn 2004. The comment period on the draft EIS will be 45 days. It is important that those interested in the management of the Payette National Forest participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F. 2d 1016, 1002 (9th Cir. 1986) and Wisconsin Heritages, Inc. v. Harris, 490 F. Supp. 1334, 1338 (E. D. Wis. 1980). Because of these court rulings, it is important that those interested in this proposed action participate by the close of the 45 day comment period so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the 45-day comment period ends on the draft EIS, the Forest Service will analyze comments received and address them in the final EIS. The final EIS is scheduled to be completed in spring 2005. The Responsible Official is the Payette National Forest Supervisor. The decision will be documented, including the rationale for the decision, in a Record of Decision (ROD). The final environmental impact statement will be subject to review under the Forest Service Predecisional Review for Proposed Hazardous Fuel Reduction Projects at 36 CFR 218, Subpart A.

Dated: March 12, 2004.
Robert S. Giles,
Acting Forest Supervisor.

[FR Doc. 04-6197 Filed 3-18-04; 8:45 am]

BILLING CODE 3410-11-M